DEPARTMENT OF COMMERCE

International Trade Administration

A-337-806

Certain Individually Quick Frozen Red Raspberries from Chile: Correction to Notice of Initiation of Antidumping and Countervailing Duty Administrative Reviews and Requests for Revocation in Part

AGENCY: Import Administration, International Trade Administration, Department of Commerce.

EFFECTIVE DATE: December 4, 2006.

FOR FURTHER INFORMATION CONTACT: Yasmin Bordas or Julie H. Santoboni, AD/CVD Operations, Office 1, Import Administration, International Trade Administration, U.S. Department of Commerce, 14th Street and Constitution Avenue, NW, Washington, DC 20230; telephone (202) 482-3813 or (202) 482-4194, respectively.

SUPPLEMENTARY INFORMATION:

Background

On July 31, 2006, the Department of Commerce (the Department) received a request from Santiago Comercio Exterior Sociedad Anonima (SANCO) to defer for one year the initiation of the July 1, 2005 through June 30, 2006 administrative review of the antidumping duty order on Individually Quick Frozen (IQF) Red Raspberries from Chile with respect to SANCO in accordance with 19 CFR 351.213(c). The Department received no objections to this request from any party cited in 19 CFR 351.213(c)(1)(ii).

On August 30, 2006, the Department published Initiation of Antidumping and Countervailing Duty Administrative Reviews and Requests for Revocation in Part, 71 FR 51573 (Aug. 30, 2006) (“Initiation Notice”). In the Initiation Notice, the Department inadvertently included SANCO , despite SANCO's pending, unopposed request for deferral. We have granted SANCO's request for deferral. Therefore, we are correcting the Initiation Notice to defer for one year the initiation of the July 1, 2005 through June 30, 2006 administrative review of IQF Red Raspberries with respect to SANCO in accordance with 19 CFR 351.213(c).

We are issuing and publishing this notice in accordance with sections 751(a)(1) and 777(i)(1) of the Act.

Dated: November 21, 2006.
Susan H. Kuhbach,
Acting Deputy Assistant Secretary for Import Administration.

[FR Doc. E6-20459 Filed 12-01-06; 8:45 am]

Billing Code: 3510-DS-S